ENVIRONMENTAL PROTECTION AGENCY

40 CFR Part 84

[EPA-HQ-OAR-2021-0643; FRL-11739-03-OAR]

Phasedown of Hydrofluorocarbons: Restrictions on the Use of HFCs Under the AIM Act in Variable Refrigerant Flow Air Conditioning Subsector; Reopening the Comment Period

Correction

In proposed rule document 2024-17751, appearing on pages 65575-65576 in the issue of Monday, August 12, 2024, make the following correction:

On page 65575, in the second column, the DATES section should read as follows:

DATES: The comment period for the proposed rule published on June 26, 2024, at 89 FR 53373, is reopened to allow for the opportunity to request a public hearing. To request a public hearing, please submit a comment per the instructions in the ADDRESSES section on or before August 19, 2024. See SUPPLEMENTARY INFORMATION for information on requesting and registering for a public hearing. If no public hearing is requested, the comment period will close on August 27, 2024. If a public hearing is requested, the comment period will close on September 26, 2024.

[FR Doc. C1-2024-17751 Filed 8-12-24; 2:00 pm]

BILLING CODE 0099-10-D